DEPARTMENT OF HEALTH & HUMAN SERVICES

Administration for Children and Families

Office of Planning, Research and Evaluation; Secondary Analysis of Data From the National Survey of Child Abuse and Neglect

Funding Opportunity Title: Secondary Analysis of Data from the National Survey of Child Abuse and Neglect (NSCAW).

Announcement Type: Initial.

Funding Opportunity Number: HHS-2005-ACF-OPRE-PH-0095.

CFDA Number: 93.647.

Due Date For Letter of Intent or Preapplications: Three weeks prior to due date.

Due Date for Applications: Application is due August 5, 2005.

Executive Summary: Funds are available to support grants for secondary analysis of data available from the National Survey on Child and Adolescent Well-Being (NSCAW). NSCAW provides longitudinal data from multiple informants on the functioning, well-being, and services provided to a national probability sample of children and families who come into contact with the child welfare system through an investigation of child maltreatment. Data are available through licensing agreements from the National Data Archive on Child Abuse and Neglect at Cornell University (http://www.ndacan.cornell.edu). Applicants' planned analyses should be designed to advance the state of knowledge in child maltreatment, child welfare services, child and family services, and/or child development for high risk children.

I. Funding Opportunity Description

A. Purpose

The purpose of this priority area is to announce the availability of funds to support grants for secondary analysis of data available from the National Survey on Child and Adolescent Well-Being. The planned analyses should be designed to advance the state of knowledge in child maltreatment, child welfare services, child and family services, and/or child development for high risk children.

B. Background

The National Survey of Child and Adolescent Well-Being, authorized under Section 429A of the Personal Responsibility and Work Opportunities Reconciliation Act, is the first nationally representative study that examines the functioning and well-being of children and families who come to the attention of the child welfare system. Although there has been an increasing emphasis on child well-being as a key outcome of child welfare services, and states are being held accountable for those outcomes, there has been little information, particularly on a national scale, to examine well-being within the context of the family and community environments and the service systems that are likely to affect children's functioning. NSCAW was designed to begin to address this gap.

Children in the core sample (n=5504) were selected from those investigated by Child Protective Services in 92 primary sampling units (PSUs) during a 15-month sampling period beginning in the fall of 1999. Children are included in the sample and followed up whether or not their investigation resulted in a case opening; thus, NSCAW includes children who remain at home without services; those who remain at home and receive child welfare services; and those who are placed out of home in foster, kinship, or group care. A supplemental sample (n=727) was selected from children who were reaching their first anniversary in foster care during the same sampling period. Extensive information on child and family characteristics, service needs, and service receipt was collected directly from the target children, their caregivers, their caseworkers, and their teachers at baseline, and follow-up data were collected from all respondents at 18 months and 36 months post-baseline. In addition, information about services was collected from caregivers and caseworkers at 12 months post-baseline. Baseline contextual data are available from state administrators and local child welfare administrators in the PSUs. More information about NSCAW methodology and measures is available in the data file user's manual, available from the National Data Archive on Child Abuse and Neglect, at Cornell University (http://www.ndacan.cornell.edu) or from the ACF website at http://www.acf.hhs.gov/programs/core/ongoing_research/

The data were collected under a contract to Research Triangle International, with a subcontract to the University of North Carolina. Analyses sponsored by the government to date under that contract include a descriptive analysis of baseline data from the “core” and “one-year-in-foster-care” samples, as well as multivariate analyses, focusing on services and outcomes, of longitudinal data at the 18 and 36 month follow-up periods. For more information, please see http://www.acf.dhhs.gov/programs/core/ongoing_research. Other analytic activities are underway through a NIMH-funded consortium, the Caring for Children in Child Welfare group, headed by San Diego Children's Hospital, and are focused on mental health services utilization and children's service system organization. More information on that workgroup can be found at http://www.casrc.org/projects/CCCW/.

The NSCAW provides an exceptionally rich data source that can address any number of questions of interest in the fields of child maltreatment, child welfare, domestic violence, children's services, family support services, family stressors, and organization of services. The survey was designed from the outset to stimulate a broad array of research that would contribute to the knowledge base around high risk children, particularly those who have been abused or neglected, and the effectiveness of services to children and families. Data from the survey are archived at the National Data Archive on Child Abuse and Neglect, at Cornell University. Data from the baseline, 12-month, and 18-month, and 36-month follow-ups have been archived. This announcement is intended to encourage use of the data to address field-initiated questions that are of interest to the child welfare, child and family services, child maltreatment, and/or child development research, policy, and practice communities.

The data collected through NSCAW contain confidential and highly sensitive information, and release of the data is subject to certain restrictions. Three levels of release have been established. First, a general release data set is available that has deleted certain key variables that might be used in reidentifying participants; geographic information, in particular, is omitted from this data set. Access to this data set is subject to approval by an Institutional Review Board (IRB), and a nominal licensing fee is required. Second, restricted-use data sets are available from the NDACAN under a licensing arrangement that requires, among other things, approval by an IRB, a detailed data security plan, and an agreement to allow unannounced on-site inspections of data security procedures. There is a more substantial fee ($2,500) for the restricted release version, which covers the cost of security inspections. Further information on data licensing is available at http://www.ndacan.cornell.edu. Third, there are, in some cases, opportunities for linking NSCAW data with other data sets through an arrangement with the NSCAW contractor, RTI International. The matches are completed at RTI, and the data set is returned to the user with the matching completed on the requested variables, and identifying variables deleted. Such data linkages must be approved through the RTI International IRB as well as the grantee's IRB, and arrangements and fees must be negotiated directly with RTI International. Applications anticipating this type of data linkage should be accompanied by evidence of an agreement between the applicant's institution and RTI International. Budgets for all applications should include costs of obtaining data.

An important programmatic priority area for the Administration for Children and Families is to improve the well-being and safety of families and individuals, especially vulnerable populations, and to increase the percentage of children and youth living in permanent, safe environments. Data analysis from NSCAW can provide valuable information in moving toward those goals. Applicants are invited to submit proposals for secondary analysis of NSCAW data that will address questions of interest to the research, policy, and/or practice communities in the areas of child maltreatment, child welfare, child development, social and health services utilization, social work practice, family processes and functioning, risk behaviors, or other questions of relevance to the child services and research communities. Applications are encouraged from investigators who represent diverse disciplines, including, but not limited to, developmental psychology, epidemiology, sociology, social work, and pediatrics.

ACF will give priority to proposals focusing on the following areas of agency interest:

• Kinship care, including the characteristics, needs, experiences, and services received by children in kinship care both within and outside the foster care system;

• Resiliency, including the characteristics, needs, experiences and services received by children and families with positive outcomes;

• The characteristics, needs, experiences, and services received by children and families that were re-reported for abuse or neglect within the study period;

• Differences in characteristics, needs, experiences, and services received by children and families in different racial and ethnic groups; in rural versus urban areas; and across different ages at which children enter the child welfare system;

• Differences in characteristics, needs, experiences and services received by children who enter the child welfare system due to different types of abuse and neglect;

• Patterns of preventive services, including what types of children and families are likely to receive preventive services, and what outcomes these children and families experience;

• Characteristics, needs, experiences, and services received by children who enter the child welfare system as infants, including those who enter the system due to parental substance abuse;

• Analyses related to the outcomes measured in the Child and Family Services Reviews conducted by ACF;

• Characteristics, needs, experiences and services received by children with one or more unsubstantiated reports of maltreatment.

The agency expects to award a grant or contract that will provide for a conference of data users to present findings from their analyses. The grantee should plan to budget for one meeting in Washington DC in FY 2006.

There are specific procedures which must be followed in order to protect the privacy and ensure the confidentiality of the respondents in the NSCAW data set. Applicants are asked to describe their plans regarding an Institutional Review Board (IRB) review. Applicants must include a completed Form 310, Protection of Human Subjects, available at: http://www.acf.hhs.gov/programs/ofs/forms.htm. For more information about use of human subjects and IRB's you can visit these web sites: http://www.hhs.gov/ohrp/irb/irb_chapter2.htm#d2 and http://www.hhs.gov/ohrp/humansubjects/guidance/ictips.htm

II. Award Information

Funding Instrument Type: Grant.

Anticipated Total Priority Area Funding: $800,000.

Anticipated Number of Awards: 5-10.

Ceiling on Amount of Individual Awards Per Budget Period: $100,000.

Average Projected Award Amount: $75,000.

Length of Project Periods: 17 months.

III. Eligibility Information

1. Eligible Applicants

Unrestricted (i.e., open to any type of entity subject to exceptions specified in Additional Information on Eligibility)

Additional Information on Eligibility

Applicants must be eligible to obtain licenses for NSCAW data, as described under the licensing agreements available at the National Data Archive on Child Abuse and Neglect (see http://www.ndacan.cornell.edu). Faith-based organizations are also eligible to apply if they meet the requirements of the NSCAW data licensing agreements.

2. Cost Sharing/Matching

None.

3. Other

Applicants must demonstrate their eligibility to access the NSCAW data sets that are the subject of the application. Access to all data sets is subject to approval by an Institutional Review Board (IRB), and a licensing fee is required. Restricted-use data sets are available under a licensing arrangement that requires, among other things, approval by an IRB, a detailed data security plan, and an agreement to allow unannounced on-site inspections of data security procedures. Further information on data licensing is available at http://www.ndacan.cornell.edu.

All Applicants must have a Dun & Bradstreet Number. On June 27, 2003 the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Non-profit organizations applying for funding are required to submit proof of their non-profit status.

Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earning accrue to any private shareholders or individuals.

• A certified copy of the organization's certificate of incorporation or similar document that clearly establishes non-profit status.

• Any of the items in the subparagraphs immediately above for a State or national parent organization and a statement signed by the parent organization that the applicant organization is a local non-profit affiliate.

Private, non-profit organizations are encouraged to submit with their applications the survey located under “Grant Related Documents and Forms,” “Survey for Private, Non-Profit Grant Applicants,” titled, “Survey on Ensuring Equal Opportunity for Applicants,” at: www.acf.hhs.gov/programs/ofs/forms.htm.

Disqualification Factors

Applications that exceed the ceiling amount will be considered non-responsive and will not be considered for funding under this announcement.

Any application that fails to satisfy the deadline requirements referenced in Section IV.3 will be considered non-responsive and will not be considered for funding under this announcement.

IV. Application and Submission Information

1. Address To Request Application Package

Care of Xtria, LLC; ATTN: NSCAW Grant Review Team, 8045 Leesburg Pike, Suite 400, Vienna, VA 22182. Phone: 877-663-0250. Fax: 1-703-821-3989. E-mail: opre@xtria.com.

2. Content and Form of Application Submission

Notice of Intent to Submit an Application: If you plan to submit an application, it is encouraged that you notify us by fax or e-mail at least three weeks prior to the submission deadline date. This information will be used only to determine the number of expert reviewers needed to review the applications. Include only the following information in this fax or email: The number and title of this announcement; the name, address, telephone and fax number, e-mail address of the principal investigator(s), the fiscal agent (if known); and the name of the university or non-profit institution. Do not include a description of your proposed project. Send this information to “The NSCAW Research Support Team” at: Fax: 1-703-821-3989. E-mail: opre@xtria.com.

Application Format and Organization. Applicants must limit their application to 60 pages (beginning with the Table of Contents as described in the required format below), double-spaced, with standard one-inch margins and 12 point fonts. This page limit applies to both narrative text and supporting materials. In addition, applicants should number the pages of their application and include a table of contents.

Applicants are advised to include all required forms and materials and to organize these materials according to the format presented below:

a. Cover Letter

b. Contact information sheet

c. Standard Federal Forms

Standard Application for Federal Assistance (forms 424 and 424A)

Assurances: Non-construction Programs (form 424B)

Certifications regarding Lobbying

Disclosures of Lobbying Activities

Certification regarding Drug-free Workplace Requirements

Certification regarding Debarment, Suspension, and other Responsibility Matters

Protection of Human Subjects

Certification regarding Environmental Tobacco Smoke

d. Table of Contents

e. Project Narrative Statement

f. Appendix

Curriculum Vitae for Primary Investigators

You may submit your application to us in either electronic or paper format.To submit an application electronically, please use the www.Grants.gov/Apply site. If you use Grants.gov, you will be able to download a copy of the application package, complete it off-line, and then upload and submit the application via the Grants.gov site. ACF will not accept grant applications via email or facsimile transmission.

Please note the following if you plan to submit your application electronically via Grants.gov.

• Electronic submission is voluntary, but strongly encouraged.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on www.Grants.gov.

• You must search for the downloadable application package by the CFDA number.

Applicants that are submitting their application in paper format should submit an original and two copies of the complete application. An original and two copies of the complete application are required. The original and each of the two copies must include all required forms, certifications, assurances, and appendices, be signed by an authorized representative, have original signatures, and be submitted unbound.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Standard Forms and Certifications

The project description should include all the information requirements described in the specific evaluation criteria outlined in the program announcement under Section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants must sign and return the certification with their application.

Applicants must also understand they will be held accountable for the smoking prohibition included within Pub. L. 103-227, Title XII Environmental Tobacco Smoke (also known as the PRO-KIDS Act of 1994). A copy of the Federal Register notice which implements the smoking prohibition is included with forms. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm.

There are specific procedures which must be followed in order to protect the privacy and ensure the confidentiality of the respondents in the NSCAW data set. Applicants are asked to describe their plans regarding an Institutional Review Board (IRB) review, available at: http://www.acf.hhs.gov/programs/ofs/forms.htm. Applicants must include a completed Form 310, Protection of Human Subjects. For more information about use of human subjects and IRB's you can visit these web sites: http://www.hhs.gov/ohrp/irb/irb_chapter2.htm#d2 and http://www.hhs.gov/ohrp/humansubjects/guidance/ictips.htm

Please see Section V.1. Criteria, for instructions on preparing the full project description.

3. Submission Dates and Times

Due Date for Letters of Intent: Three weeks prior to due date.

Due Date for Applications: August 5, 2005.

Explanation of Due Dates

The closing time and date for receipt of applications is referenced above. Applications received after 4:30 p.m. eastern time on the closing date will be classified as late.

Deadline: Applications shall be considered as meeting an announced deadline if they are received on or before the deadline time and date referenced in Section IV.6. Applicants are responsible for ensuring applications are mailed or submitted electronically well in advance of the application due date.

Applications hand carried by applicants, applicant couriers, other representatives of the applicant, or by overnight/express mail couriers shall be considered as meeting an announced deadline if they are received on or before the deadline date, between the hours of 8 a.m. and 4:30 p.m., eastern time, at the address referenced in Section IV.6., between Monday and Friday (excluding Federal holidays).

ACF cannot accommodate transmission of applications by facsimile. Therefore, applications transmitted to ACF by fax will not be accepted regardless of date or time of submission and time of receipt.

Receipt acknowledgement for application packages will be provided to applicants who submit their package via mail, courier services, or by hand delivery. However, applicants will receive an electronic acknowledgement for applications that are submitted via http://www.Grants.gov.

Late Applications: Applications that do not meet the criteria above are considered late applications. ACF shall notify each late applicant that its application will not be considered in the current competition.

Any application received after 4:30 p.m. eastern time on the deadline date will not be considered for competition.

Applicants using express/overnight mail services should allow two working days prior to the deadline date for receipt of applications. Applicants are cautioned that express/overnight mail services do not always deliver as agreed.

Extension of deadlines: ACF may extend application deadlines when circumstances such as acts of God (floods, hurricanes, etc.) occur, or when there are widespread disruptions of mail service, or in other rare cases. A determination to extend or waive deadline requirements rests with the Chief Grants Management Officer.

Checklist

You may use the checklist below as a guide when preparing your application package.

What to submit | Required content | Required form or format | When to submit
Table of Contents | See Section IV.2 | Described in Section V | By application due date.
Project Narrative | See Section IV.2 | Described in Section V | By application due date.
SF424 | See Section IV.2 | May be found at http://acf.hhs.gov/programs/ofs/forms.htm | By application due date.
SF424A | See Section IV.2 | May be found at http://acf.hhs.gov/programs/ofs/forms.htm | By application due date.
Assurances and Certifications | See Section IV.2 | May be found at http://acf.hhs.gov/programs/ofs/forms.htm | By application due date.
Protection of Human Subjects | See Section | May be found at http://acf.hhs.gov/programs/ofs/forms.htm | By application due date.

Additional Forms

Private, non-profit organizations are encouraged to submit with their applications the survey located under “Grant Related Documents and Forms,” “Survey for Private, Non-Profit Grant Applicants,” titled, “Survey on Ensuring Equal Opportunity for Applicants,” at: http:www.acf.hhs.gov/programs/ofs/forms.htm.

What to submit | Required content | Location | When to submit
Survey for Private, Non-Profit Grant Applicants | See form | May be found on http://www.acf.hhs.gov/programs/ofs/forms.htm | By application due date.

4. Intergovernmental Review

STATE SINGLE POINT OF CONTACT (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, North Mariana Islands, Puerto Rico, and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a. Under 45 CFR 100.8(a)(2).

A SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to the U.S. Department of Health and Human Services, Administration for Children and Families, Office of Grants Management, Division of Discretionary Grants, 370 L'Enfant Promenade SW., 4th floor, Washington, DC 20447.

When comments are submitted directly to ACF, they should be addressed to: Department of Health and Human Services, Administration for Children and Families, Division of Discretionary Grants, 370 L'Enfant Promenade, SW., Washington, DC 20447.

Although the remaining jurisdictions have chosen not to participate in the process, entities that meet the eligibility requirements of the program are still eligible to apply for a grant even if a State, Territory, Commonwealth, etc. does not have a SPOC. Therefore, applicants from these jurisdictions, or for projects administered by federally-recognized Indian Tribes, need take no action in regard to E.O. 12372.

The official list, including addresses, of the jurisdictions that have elected to participate in E.O. 12372 can be found on the following URL: http://www.whitehouse.gov/omb/grants/spoc.html.

A list of Single Points of Contact for each State and Territory is included with the application materials for this announcement.

5. Funding Restrictions

Grant awards will not allow reimbursement of pre-award costs.

6. Other Submission Requirements

Submission by Mail: An applicant must provide an original application with all attachments, signed by an authorized representative and two copies. The application must be received at the address below by 4:30 p.m. eastern time on or before the closing date. Applications should be mailed to: Care of Xtria, LLC, ATTN: NSCAW Grant Review Team, 8045 Leesburg Pike, Suite 400, Vienna, VA 22182.

Hand Delivery: An applicant must provide an original application with all attachments signed by an authorized representative and two copies. The application must be received at the address below by 4:30 p.m. eastern time on or before the closing date. Applications that are hand delivered will be accepted between the hours of 8 a.m. to 4:30 p.m. eastern time, Monday through Friday. Applications should be delivered to: Care of Xtria, LLC, ATTN: NSCAW Grant Review Team, 8045 Leesburg Pike, Suite 400, Vienna, VA 22182.

Electronic Submission: www.Grants.gov Please see section IV.2 Content and Form of Application Submission, for guidelines and requirements when submitting applications electronically.

V. Application Review Information

The Paperwork Reduction Act of 1995 (Pub. L. 104-13)

Public reporting burden for this collection of information is estimated to average 40 hours per response, including the time for reviewing instructions, gathering and maintaining the data needed and reviewing the collection information.

The project description is approved under OMB control number 0970-0139 which expires 4/30/2007.

An agency may not conduct or sponsor, and a person is not required to respond to, a collection of information unless it displays a currently valid OMB control number.

1. Criteria

PURPOSE

The project description provides a major means by which an application is evaluated and ranked to compete with other applications for available assistance. The project description should be concise and complete and should address the activity for which Federal funds are being requested. Supporting documents should be included where they can present information clearly and succinctly. In preparing your project description, information responsive to each of the requested evaluation criteria must be provided. Awarding offices use this and other information in making their funding recommendations. It is important, therefore, that this information be included in the application in a manner that is clear and complete.

GENERAL INSTRUCTIONS

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix. Pages should be numbered and a table of contents should be included for easy reference.

INTRODUCTION

Applicants required to submit a full project description shall prepare the project description statement in accordance with the following instructions while being aware of the specified evaluation criteria. The text options give a broad overview of what your project description should include while the evaluation criteria identifies the measures that will be used to evaluate applications.

PROJECT SUMMARY/ABSTRACT

Provide a summary of the project description (a page or less) with reference to the funding request.

RESULTS OR BENEFITS EXPECTED

Identify the results and benefits to be derived.

APPROACH

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished.

When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

STAFF AND POSITION DATA

Provide a biographical sketch and job description for each key person appointed. Job descriptions for each vacant key position should be included as well. As new key staff is appointed, biographical sketches will also be required.

ORGANIZATIONAL PROFILES

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. If the applicant is a non-profit organization, submit proof of non-profit status in its application.

The non-profit agency can accomplish this by providing: (a) A reference to the applicant organization's listing in the Internal Revenue Service's (IRS) most recent list of tax-exempt organizations described in the IRS Code; (b) a copy of a currently valid IRS tax exemption certificate, (c) a statement from a State taxing body, State attorney general, or other appropriate State official certifying that the applicant organization has a non-profit status and that none of the net earnings accrue to any private shareholders or individuals; (d) a certified copy of the organization's certificate of incorporation or similar document that clearly establishes non-profit status, (e) any of the items immediately above for a State or national parent organization and a statement signed by the parent organization that the applicant organization is a local non-profit affiliate.

DISSEMINATION PLAN

Provide a plan for distributing reports and other project outputs to colleagues and the public. Applicants must provide a description of the kind, volume and timing of distribution.

THIRD-PARTY AGREEMENTS

Provide written and signed agreements between grantees and subgrantees or subcontractors or other cooperating entities. These agreements must detail scope of work to be performed, work schedules, remuneration, and other terms and conditions that structure or define the relationship.

BUDGET AND BUDGET JUSTIFICATION

Provide a budget with line item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

GENERAL

Use the following guidelines for preparing the budget and budget justification. Both Federal and non-Federal resources shall be detailed and justified in the budget and narrative justification. “Federal resources” refers only to the ACF grant for which you are applying. “Non Federal resources” are all other Federal and non-Federal resources. It is suggested that budget amounts and computations be presented in a columnar format: First column, object class categories; second column, Federal budget; next column(s), non-Federal budget(s), and last column, total budget. The budget justification should be a narrative.

PERSONNEL

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

FRINGE BENEFITS

Description: Costs of employee fringe benefits unless treated as part of an approved indirect cost rate.

Justification: Provide a breakdown of the amounts and percentages that comprise fringe benefit costs such as health insurance, FICA, retirement insurance, taxes, etc.

TRAVEL

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

EQUIPMENT

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

SUPPLIES

Description: Costs of all tangible personal property other than that included under the Equipment category.

Justification: Specify general categories of supplies and their costs. Show computations and provide other information which supports the amount requested.

CONTRACTUAL

Description: Costs of all contracts for services and goods except for those that belong under other categories such as equipment, supplies, construction, etc. Include third party evaluation contracts (if applicable) and contracts with secondary recipient organizations, including delegate agencies and specific project(s) or businesses to be financed by the applicant.

Justification: Demonstrate that all procurement transactions will be conducted in a manner to provide, to the maximum extent practical, open and free competition. Recipients and subrecipients, other than States that are required to use Part 92 procedures, must justify any anticipated procurement action that is expected to be awarded without competition and exceed the simplified acquisition threshold fixed at 41 U.S.C. 403(11) (currently set at $100,000).

Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

OTHER

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

INDIRECT CHARGES

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not also be charged as direct costs to the grant. Also, if the applicant is requesting a rate which is less than what is allowed under the program, the authorized representative of the applicant organization must submit a signed acknowledgement that the applicant is accepting a lower rate than allowed.

NONFEDERAL RESOURCES

Description: Amounts of non-Federal resources that will be used to support the project as identified in Block 15 of the SF-424.

Justification: The firm commitment of these resources must be documented and submitted with the application so the applicant is given credit in the review process. A detailed budget must be prepared for each funding source.

Evaluation Criteria

The following evaluation criteria appear in weighted descending order. The corresponding score values indicate the relative importance that ACF places on each evaluation criterion; however, applicants need not develop their applications precisely according to the order presented. Application components may be organized such that a reviewer will be able to follow a seamless and logical flow of information (e.g. from a broad overview of the project to more detailed information about how it will be conducted).

In considering how applicants will carry out the responsibilities addressed under this announcement, competing applications for financial assistance will be reviewed and evaluated against the following criteria:

APPROACH 45 Points

• The extent to which the research design is appropriate and sufficient for addressing the questions of the study.

• The extent to which the planned variables measures to be used are appropriate and sufficient for the questions of the study and the population to be studied.

• The extent to which the planned analyses both reflect knowledge and use of state-of-the-art analytic techniques, and advance the state of the art.

• The extent to which the analytic techniques are appropriate for the questions under consideration.

• The extent to which the proposed sample size is sufficient for the analysis, including the size of particular subgroups of interest.

• The extent to which the scope of the project is reasonable for the funds available for these grants.

• The extent to which the budget and budget justification are appropriate for carrying out the proposed project.

• The extent to which the applicant demonstrates understanding of the confidentiality issues in using NSCAW data, and the adequacy of the plan for maintaining confidentiality of the data sets.

STAFF AND POSITION DATA 35 Points

• The extent to which the principal investigator and other key research staff possess the research expertise necessary to conduct the study as demonstrated in the application and information contained in their vitae.

• The extent to which the proposed staff reflect an understanding of and sensitivity to the issues of working with confidential data sets.

• The adequacy of the time devoted to this project by the principal investigator and other key staff in order to ensure a high level of professional input and attention.

• The extent to which the applicant demonstrates the capacity to use complex data sets such as NSCAW.

RESULTS OR BENEFITS EXPECTED 20 Points

• The research questions are clearly stated.

• The extent to which the questions are of importance and relevance for the field of child welfare, child maltreatment, child development, or children's services research.

• The extent to which the research study makes a significant contribution to the knowledge base.

• The extent to which the literature review is current and comprehensive and supports the questions to be addressed or the hypotheses to be tested.

• The extent to which the questions that will be addressed or the hypotheses that will be tested are sufficient for meeting the stated objectives.

The extent to which the proposal contains a dissemination plan that encompasses both professional and practitioner-oriented products.

2. Review and Selection Process

No grant award will be made under this announcement on the basis of an incomplete application. Timely applications from eligible applicants will be reviewed and scored competitively. Reviewers will use the evaluation criteria listed above to review and score the application.

On the basis of the review of an application, ACF will: (a) Approve the application for funding; or (b) disapprove the application; or (c) approve the application but not fund it for such reasons as a lack of funds or a need for further review.

Since ACF will be using non-Federal reviewers in the review process, applicants have the option of omitting from the application copies (not the original) specific salary rates or amounts for individuals specified in the application budget.

Approved But Unfunded Applications

Applications that are approved but unfunded may be held over for funding in the next funding cycle, pending the availability of funds, for a period not to exceed one year.

3. Anticipated Announcement and Award Dates

Grants to successful applications will be awarded by September 30, 2005.

VI. Award Administration Information

1. Award Notices

The successful applicants will be notified through the issuance of a Financial Assistance Award document which sets forth the amount of funds granted, the terms and conditions of the grant, the effective date of the grant, the budget period for which initial support will be given, the non-Federal share to be provided (if applicable), and the total project period for which support is contemplated. The Financial Assistance Award will be signed by the Grants Officer and transmitted via postal mail.

Organizations whose applications will not be funded will be notified in writing.

2. Administrative and National Policy Requirements

Grantees are subject to the requirements in 45 CFR Part 74 (non-governmental) or 45 CFR Part 92 (governmental).

Direct Federal grants, subaward funds, or contracts under this Program shall not be used to support inherently religious activities such as religious instruction, worship, or proselytization. Therefore, organizations must take steps to separate, in time or location, their inherently religious activities from the services funded under this Program. Regulations pertaining to the prohibition of Federal funds for inherently religious activities can be found on the HHS Web site at: http://www.os.dhhs.gov/fbci/waisgate21.pdf

3. Reporting Requirements

Program Progress Reports Semi-Annually

Financial Reports: Semi-Annually

Grantees will be required to submit program progress and financial reports (SF 269) throughout the project period. Program progress and financial reports are due 30 days after the reporting period. In addition, final programmatic and financial reports are due 90 days after the close of the project period.

VII. Agency Contacts

Program Office Contact

Attn: Mary Bruce Webb, ACF, Office of Planning, Research and Evaluation, 370 L'Enfant Promenade, Washington, DC 20447. Phone: 202-205-8628. E-mail: mbwebb@acf.hhs.gov.

Grants Management Office Contact

Attn: Sylvia Johnson, ACF, Division of Discretionary Grants, 370 L'Enfant Promenade, Washington, DC 20447. Phone: 202-260-7622. E-mail: sjohnson@acf.hhs.gov.

VIII. Other Information

Notice: Beginning with FY 2006, the Administration for Children and Families (ACF) will no longer publish grant announcements in the Federal Register. Beginning October 1, 2005 applicants will be able to find a synopsis of all ACF grant opportunities and apply electronically for opportunities via: www.Grants.gov. Applicants will also be able to find the complete text of all ACF grant announcements on the ACF Web site located at: http://www.acf.hhs.gov/grants/index.html.

Please reference Section IV.3 for details about acknowledgement of received applications.

Dated: June 14, 2005.
Mary Bruce Webb,
Senior Research Analyst, ACF/OPRE.

[FR Doc. 05-12157 Filed 6-20-05; 8:45 am]

BILLING CODE 4184-01-P